DEPARTMENT OF THE INTERIOR

National Park Service

Draft Backcountry Management Plan, General Management Plan Amendment and Environmental Impact Statement, Denali National Park and Preserve, Alaska

AGENCY: National Park Service, Interior.

ACTION: Notice of availability of the Draft Backcountry Management Plan, General Management Plan Amendment and Environmental Impact Statement.

SUMMARY: The National Park Service (NPS) announces the availability of the Draft Backcountry Management Plan, General Management Plan Amendment and Environmental Impact Statement (EIS) for Denali National Park and Preserve. The document describes and analyzes the environmental impacts of a preferred alternative and three action alternatives for managing the park and preserve's backcountry. A no action alternative also is evaluated. This notice announces the 75-day public comment period, the locations of public hearings, and solicits comments on the draft plan and EIS.

DATES: Comments on the draft plan and EIS must be received no later than May 7, 2003.

ADDRESSES: Comments on the draft plan and EIS should be submitted to the Superintendent, Denali National Park and Preserve, Post Office Box 9, Denali Park, Alaska 99755. Submit electronic comments to dena_public_comment@nps.gov. The draft EIS may be viewed online at http://www.nps.gov/dena through the “in Depth” link on our homepage under “Planning and Management.” Hard copies or CDs of the Draft Backcountry Management Plan and General Management Plan Amendment and EIS are available by request from the aforementioned address. See SUPPLEMENTARY INFORMATION for the locations of informational meetings and public hearings.

FOR FURTHER INFORMATION CONTACT: Mike Tranel, Chief of Planning, Denali National Park and Preserve. Telephone: (907) 257-2562.

SUPPLEMENTARY INFORMATION: The National Park Service (NPS) is preparing a backcountry management plan and accompanying EIS that amends the 1986 General Management Plan for Denali National Park and Preserve. The purpose of the plan and EIS is to formulate a comprehensive plan for the backcountry, including designated wilderness, of Denali National Park and Preserve that will provide management direction over the next 15-20 years. The backcountry of Denali National Park and Preserve is defined to include the entire park except for those areas designated specifically for development in the entrance area and along the road corridor. Many issues to be addressed in the backcountry management plan, however, would affect the entire park, including developed areas. The NPS has initiated this management plan and EIS to address the rapidly growing level and diversity of uses, resource management needs, and the anticipated demand for future uses not foreseen or addressed in the 1986 General Management Plan. The NPS developed a range of alternatives based on planning objectives, park resources, and public input. Each alternative represents a distinct vision for the park's backcountry. These alternatives describe actions related to management area designation, recreational activities, and administrative activities. Four alternatives in addition to a no-action alternative were developed.

Alternative A (No Action): Current and projected conditions under this alternative provide a baseline for evaluating the changes and impacts of the other action alternatives. The NPS would continue the present management direction, guided by the 1986 General Management Plan, the 1997 Entrance Area and Road Corridor Development Concept Plan, the 1997 South Side Denali Development Concept Plan, the 1997 Strategic Plan, and backcountry management plans from 1976 and 1982. Recreational use and access patterns would continue to develop, and the NPS would respond as necessary on a case-by-case basis. No new services or facilities would be developed to meet increased levels of use in the backcountry, except for those identified in the Entrance Area or South Side plans. This alternative represents “no action” for this plan. For all activities, the NPS would respond to changing use patterns as necessary to protect park resources, visitor safety, and visitor experience.

Alternative B: This alternative would emphasize wilderness resource values (including solitude and natural sounds) and opportunities for self-reliant, non-motorized recreation that depend on the wilderness character of the resource. Denali would have a high degree of resource protection, especially in the original Old Park area. Under this alternative, some uses would be reduced or managed for greater dispersal to enhance resource protection. While some new approved uses could occur, services would be minimized to provide self-reliant experiences.

Alternative C: This alternative would emphasize highly dispersed recreational uses that are consistent with wilderness values and opportunities for solitude. It would allow for both motorized and non-motorized recreation activities, but would limit growth or otherwise manage use levels to provide a quality visitor experience and protect park resources.

Alternative D (NPS Preferred Alternative): The NPS would provide for expanded recreational opportunities in many areas of the park and preserve for activities that are particularly well suited to the unique character of Denali. Use levels would not exceed those that maintain the management vision for a particular unit. Patterns and types of use would be somewhat similar to current conditions, but increases in levels of use would be noticeable at several locations.

Alternative E: This alternative would emphasize expanded visitor services, additional facilities, and increased motorized access for backcountry users. A variety of uses would be accommodated throughout the park, and new forms and levels of recreational uses would be allowed in the park additions and preserve, while protecting resources. New facilities would be added in the entrance area and on the south side. There would be some expansion of existing uses in the original Old Park area, with modest expansion of uses in the park additions and preserve. There would be minimal reductions of or redistribution of existing uses even in congested areas. This alternative would allow additional types of use not presently occurring but consistent with laws, regulations, and management policies. As types and levels of use increase, so too would administrative presence.

Informational meetings and public hearings are scheduled in Alaska at the following locations: Anchorage, Wasilla, Fairbanks, Healy, Susitna Valley, Minchumina, and Cantwell. The specific dates and times of the meetings and public hearings will be announced in local media.

Dated: February 12, 2003.
Marcia Blaszak,
Acting Regional Director, Alaska.

[FR Doc. 03-4352 Filed 2-24-03; 8:45 am]

BILLING CODE 4310-70-P